DEPARTMENT OF THE INTERIOR

Fish and Wildlife Service

Preparation of an Environmental Impact Statement for Mount Diablo State Park, Contra Costa County, CA

AGENCY: Fish and Wildlife Service, Interior.

ACTION: Notice of intent.

SUMMARY: Pursuant to the National Environmental Policy Act (NEPA), the Fish and Wildlife Service (Service) advises the public that we intend to gather information necessary to prepare, in coordination with the California Department of Parks and Recreations (State Parks), a joint Environmental Impact Statement/Environmental Impact Report (EIS/EIR) on the impacts of the proposed Mount Diablo State Park Habitat Conservation Plan (Plan). The Plan is being prepared under section 10 (a)(1)(B) of the Endangered Species Act (Act). The Plan proposes an 18,000-acre planning area covering the administrative area, including a 1-mile buffer, of Mount Diablo State Park, Contra Costa County, California. The State Parks intends to request an incidental take permit under the Act for two species federally listed as threatened and seven non-listed species that may become listed during the term of the permit. The permit is needed to authorize incidental take of listed species that could occur as a result of implementation activities covered under the Plan.

The Service provides this notice to: (1) Describe the proposed action and possible alternatives; (2) advise other Federal and State agencies, affected Tribes, and the public of our intent to prepare an EIS/EIR; (3) announce the initiation of a public scoping period; and (4) invite public participating in offering suggestions and information on the scope of issues to be included in the EIS/EIR.

DATES: Written comments should be received on or before September 3, 2003, and will be accepted at the public meeting. The meeting date is: Tuesday, August 19, 2003, 7 p.m. to 9 p.m., Walnut Creek, California.

ADDRESSES: Written comments or questions related to the preparation of the EIS/EIR and NEPA process should be submitted to Sheila Larsen, Conservation Planning, U.S. Fish and Wildlife Service, Sacramento Fish and Wildlife Office, 2800 Cottage Way, W-2605, Sacramento, California 95825; FAX (916) 414-6713. The meeting location is: Shadelands Art Center, 111 North Wiget Lane at Ygnacio Valley Road, Walnut Creek, California, 94596.

FOR FURTHER INFORMATION CONTACT: Sheila Larsen, Fish and Wildlife Biologist, Conservation Planning, at the Sacramento Fish and Wildlife Office at (916) 414-6600.

SUPPLEMENTARY INFORMATION:

Reasonable Accommodation

Persons needing reasonable accommodations in order to attend and participate in the public meeting should contact Sheila Larsen as soon as possible (see FOR FURTHER INFORMATION CONTACT). To allow sufficient time to process requests, please call no later than one week before the public meeting. Information regarding this proposed action is available in alternative formats upon request.

Background

Section 9 of the Act and its implementing Federal regulations prohibit the “take” of a species listed as endangered or threatened. Take is defined under the Act as including to harass, harm, pursue, hunt, shoot, wound, kill, trap, capture or to collect listed animal species, or to attempt to engage in such conduct (16 U.S.C. 1538). However, under section 10(a)(1)(B) of the Act, we may issue permits to authorize “incidental take” of listed species. “Incidental take” is defined by the Act as take that is incidental to, and not the purpose of, carrying out an otherwise lawful activity. Regulations governing permits for threatened and endangered species are found in the Code of Federal Regulations at 50 CFR 17.32, and 17.22.

Currently, two species federally listed as threatened, and seven species that are not listed, are proposed for coverage under the proposed Plan. The listed species are Alameda whipsnake (Masticophis lateralis euryxanthus) and California red-legged frog (Rana aurora draytonii). The non-listed species are: California tiger salamander (Ambystoma californiense), foothill yellow-legged frog (Rana boylii), Swainson's hawk (Buteo swainsoni), peregrine falcon (Falco peregrinus anatum), burrowing owl (Athene cunicularia), Mount Diablo bird's-beak (Cordylanthus nidularius), and rock sanicle (Sanicula saxatilis). Species may be added or deleted during the course of Plan development based on further analysis, new information, agency consultation, and public comment.

The proposed Plan area includes approximately 18,000 acres in west Contra Costa County. The boundaries of the Plan area are generally defined as a 1-mile buffer around Mount Diablo State Park, including the park.

Possible implementation activities that may be covered under the proposed Plan include road and trail development and maintenance, natural resource management, park facilities development and associated infrastructure, park operation and maintenance projects, and special events. For proposed road and trail development and maintenance, activities such as grading roads, repairs due to erosion, minor re-alignment of roads and trails, repaving of existing primary road system, and management of roadside and trail vegetation may occur. For proposed natural resource management, activities such as exotic plant and animal control, habitat restoration and enhancement, and cultural resource surveys and protection may occur. Proposed covered activities under park operation and maintenance projects may include construction or expansion of existing and new park facilities; repair and replacement of fences, water and sewer system; and normal park operation activities such as trash removal, hazard tree removal, maintaining fuel breaks, and snow plowing. Special event activities may include company picnics, stargazing, and athletic events. Under the proposed Plan, the effects of covered activities are expected to be minimized and mitigated through participation in a conservation program, which will be fully described in the Plan. The proposed need of a conservation program is to provide long-term protection of covered species by protecting biological communities in the Plan area.

Components of a proposed conservation program are now under consideration by the Service and State Parks. These components will likely include: Avoidance and minimization measures, monitoring, adaptive management, and mitigation measures consisting of preservation, restoration, and enhancement of habitat.

Environmental Impact Statement/Report

State Parks has selected Shaw E&I, Inc. (Shaw), to prepare the Draft EIS/EIR. The joint document will be prepared in compliance with NEPA and the California Environmental Quality Act (CEQA). Although Shaw will prepare the EIS/EIR, the Service will be responsible for the scope and content of the document for NEPA purposes, and State Parks will be responsible for the scope and content of the document for CEQA purposes.

The EIS/EIR will consider a proposed action (issuance of section 10(a)(1)(B) permit), no action (no permit) alternative, and a reasonable range of other alternatives. A detailed description of the proposed action and other alternatives will be included in the EIS/EIR. It is anticipated that several alternatives will be developed during scoping, which may vary by the level of conservation, impacts caused by the proposed activities, permit area, covered species, or a combination of these factors.

The EIS/EIR will also identify potentially significant impacts on biological resources, land use, air quality, water quality, mineral resources, water resources, economics, and other environmental resource issues that could occur directly or indirectly with implementation of the proposed action and other alternatives. For all potentially significant impacts, the EIS/EIR will identify mitigation measures where feasible to reduce these impacts to a level below significance.

Environmental review of the EIS/EIR will be conducted in accordance with the requirements of NEPA (42 U.S.C. 4321 et seq.), its implementing regulations (40 CFR parts 1500-1508), other applicable regulations, and Service procedures for compliance with those regulations. We are publishing this notice in accordance with section 1501.7 of NEPA to obtain suggestions and information from other agencies and the public on the scope of issues and alternatives to be addressed in the EIS/EIR. More specifically, we provide this notice: (1) To describe the proposed action and possible alternatives; (2) to advise other Federal and State agencies, affected Tribes, and the public of our intent to prepare an EIS/EIR; (3) to announce the initiation of a public scoping period; and (4) to obtain suggestions and information on the scope of issues to be included in the EIS/EIR. The primary purpose of the scoping process is to identify, rather than to debate, significant issues related to the proposed action. We invite written comments from interested parties to ensure that the full range of issues related to the permit request are identified. All comments received, including names and addresses, will become part of the official administrative record and may be made available to the public.

Dated: July 29, 2003.
D. Kenneth McDermond,
Deputy Manager, Region 1, California/Nevada Operations Office, Sacramento, California.

[FR Doc. 03-19776 Filed 8-1-03; 8:45 am]

BILLING CODE 4310-55-P